DEPARTMENT OF AGRICULTURE

Center for Nutrition Policy and Promotion; Agency Information Collection Activities; Proposed Collection; Comment Request—Generic Clearance for the Development of Nutrition Education Messages and Materials for the General Public

AGENCY: Center for Nutrition Policy and Promotion, USDA.

ACTION: Notice.

SUMMARY: In accordance with the Paperwork Reduction Act of 1995, this notice invites the general public and other public agencies to comment on a proposed information collection. This notice announces the Center for Nutrition Policy and Promotion's (CNPP) intention to request the Office of Management and Budget's approval of the information collection processes and instruments to be used during consumer research while testing nutrition education messages and materials developed for the general public. The purpose for performing consumer research will be to identify consumers' understanding of potential nutrition education messages and obtain their reaction to prototypes of nutrition education materials, including Internet-based materials. The information collected will be used to refine messages and materials to improve their usefulness as well as aid consumer understanding of all Dietary Guidelines for Americans and MyPyramid-related materials.

DATES: Written comments on this notice must be submitted on or before August 18, 2006.

ADDRESSES: Comments may be sent to Carole Davis, Nutrition Promotion Staff Director, Center for Nutrition Policy and Promotion, U.S. Department of Agriculture, 3101 Park Center Drive, Room 1034, Alexandria, VA 22302.

Comments are invited on (a) whether the proposed collection of information is necessary for the proper performance of the functions of the agency, including whether the information will have practical utility; (b) the accuracy of the agency's estimate of the burden of the proposed collection of information, including the validity of the methodology and assumptions used; (c) ways to enhance the quality, utility and clarity of the information collected; and (d) ways to minimize the burden of the collection of information on those who are to respond, including the use of appropriate automated, electronic, mechanical, or other technological collection techniques or other forms of information technology.

All responses to this notice will be summarized and included in the OMB Clearance Supporting Statement requesting Office of Management and Budget (OMB) approval. All comments will also become a matter of public record.

FOR FURTHER INFORMATION CONTACT: Requests for additional information should be directed to Carole Davis, 703-305-7600.

SUPPLEMENTARY INFORMATION: Title: Generic Clearance for the Development of Nutrition Education Messages and Materials for the General Public/CNPP.

OMB Number: 0582-0523.

Expiration Date: December 31, 2006.

Type of Request: Revision of a currently approved information collection.

Abstract: The Dietary Guidelines for Americans, issued jointly by the U.S. Departments of Agriculture and Health and Human Services, are the cornerstone of Federal nutrition policy and form the basis for nutrition education efforts of these agencies. The U.S. Department of Agriculture's CNPP develops and promotes nutrition education materials to help consumers understand and use the Dietary Guidelines for Americans as well as MyPyramid, the tool designed to help consumers implement the Dietary Guidelines. Additional materials (hard copy and electronic) will be developed to help consumers understand and use the Dietary Guidelines, many of which may be geared toward various special population groups. Publications that have become obsolete since the release of the 2005 Dietary Guidelines for Americans and MyPyramid will also need to be updated and replaced. With the increased prevalence of overweight and obesity in the United States, it has become increasingly important to communicate clear and useful nutrition education information related to the Dietary Guidelines on food choices, weight, and physical activity. The USDA will have the lead responsibility for the 2010 Dietary Guidelines revision process from which new messages and materials may be developed, including a new consumer bulletin.

Educational messages and materials in support of the Dietary Guidelines for Americans and MyPyramid will be developed by the Center for Nutrition Policy and Promotion which may include:

1. Messages and materials related to the 2005 Dietary Guidelines for Americans that aim to teach the general public about proper nutrition and physical activity;

2. Enhancement of the MyPyramid Web site to include additional components such as nutrition and physical activity personalized tracking and other interactive tools as well as more consumer and professional support materials;

3. Nutrition education and Internet-based materials to help combat overweight and obesity in America;

4. Materials relaying the 2005 Dietary Guidelines for Americans and MyPyramid for special population groups that might be identified; and

5. New policy, messages and materials that might be developed as a result of the 2010 Dietary Guidelines for Americans revision process.

The materials for these initiatives will be tested using qualitative consumer research techniques, which may include focus groups (with general consumers, educators, students, etc.), interviews (i.e., intercept, individual, diads, triads, usability testing, etc.) and Web-based surveys. Participants in the testing will provide information regarding the clarity, understandability, and acceptability of the messages and materials during the developmental process and during the final product development stage.

Estimation of Burden Hours
Testing instrument | Estimated number of individual respondents | Number of responses per respondent | Estimated time per response in minutes | Estimated total annual burden in minutes | Estimated total annual burden in hours
Focus Group Screeners | 7,500 | 1 | 15 | 112,500 | 1,875
Interview Screeners | 750 | 1 | 15 | 11,250 | 187.5
Focus Groups | ¹ 500 | 1 | 120 | 60,000 | 1,000
Interviews | 100 | 1 | 120 | 12,000 | 200
Web-based Collections | 600 | 1 | 15 | 9,000 | 150
Confidentiality Agreement | 1,200 | 1 | 10 | 12,000 | 200
Total | 10,650 |  |  | 216,750 | 3,612.50
¹ (50 grps)

Affected Public: American Consumers.

Estimated Number of Respondents: 10,650.

Estimated Time per Response: 34 minutes.

Estimated Number of Responses per Respondent: One.

Estimated Total Annual Burden on Respondents: 3,612.50 hours.

Dated: June 13, 2006.
Eric J. Hentges,
Executive Director, Center for Nutrition Policy and Promotion.

[FR Doc. E6-9571 Filed 6-16-06; 8:45 am]

BILLING CODE 3410-30-P